INTERNATIONAL TRADE COMMISSION

[Investigations Nos. 731-TA-868-871 (Preliminary)]

Steel Wire Rope From China, India, Malaysia, and Thailand

Determinations

On the basis of the record ¹ developed in the subject investigations, the United States International Trade Commission determines, pursuant to section 733(a) of the Tariff Act of 1930 (19 U.S.C. 1673b(a)), that there is a reasonable indication that an industry in the United States is materially injured or threatened with material injury by reason of imports from China, India, and Malaysia of steel wire rope, provided for in subheadings 7312.10.60 and 7312.10.90 of the Harmonized Tariff Schedule of the United States, that are alleged to be sold in the United States at less than fair value (LTFV).

¹ The record is defined in sec. 207.2(f) of the Commission's Rules of Practice and Procedure (19 CFR 207.2(f)).

The Commission further determines, pursuant to 19 U.S.C. 1677(24)(A), that the subject imports from Thailand that are alleged to be sold at LTFV are negligible, but that there is a potential that subject imports from Thailand will imminently account for more than 3 percent of the volume of all such merchandise imported into the United States.² The Commission further determines either that there is no reasonable indication that an industry in the United States is threatened with material injury by reason of imports of steel wire rope from Thailand ³ or that such imports are negligible.⁴

² Vice Chairman Miller and Commissioner Askey determined that there is no potential for subject imports from Thailand to imminently account for more than 3 percent of the volume of all such merchandise imported into the United States.

³ Commissioners Hillman, Koplan, and Okun made this finding with Chairman Bragg dissenting. Chairman Bragg found that there is a reasonable indication that an industry in the United States is threatened with material injury by reason of imports from Thailand that are alleged to be sold at LTFV.

⁴ Vice Chairman Miller and Commissioner Askey found that subject imports are negligible and do not reach the issue of a reasonable indication of threat of material injury by reason of subject imports from Thailand.

Commencement of Final Phase Investigations

Pursuant to section 207.18 of the Commission's rules, the Commission also gives notice of the commencement of the final phase of its investigations. The Commission will issue a final phase notice of scheduling which will be published in the Federal Register as provided in section 207.21 of the Commission's rules upon notice from the Department of Commerce (Commerce) of affirmative preliminary determinations in the investigations under section 733(b) of the Act, or, if the preliminary determinations are negative, upon notice of affirmative final determinations in the investigations under section 735(a) of the Act. Parties that filed entries of appearance in the preliminary phase of the investigations need not enter a separate appearance for the final phase of the investigations. Industrial users, and, if the merchandise under investigation is sold at the retail level, representative consumer organizations have the right to appear as parties in Commission antidumping investigations. The Secretary will prepare a public service list containing the names and addresses of all persons, or their representatives, who are parties to the investigations.

Background

On March 1, 2000, a petition was filed with the Commission and the Department of Commerce by The Committee of Domestic Steel Wire Rope and Specialty Cable Manufacturers (Committee),⁵ Washington, DC, alleging that an industry in the United States is materially injured or threatened with material injury by reason of LTFV imports of steel wire rope from China, India, Malaysia, and Thailand. Accordingly, effective March 1, 2000, the Commission instituted antidumping duty investigations Nos. 731-TA-868-871 (Preliminary).

⁵ The Committee is comprised of the following U.S. producers: Bergen Cable Technology, Inc.; Bridon American Corp.; Carolina Steel & Wire Corp.; Continental Cable Co.; Loos & Co., Inc.; Paulsen Wire Rope Corp.; Sava Industries, Inc.; Strandflex, A Division of MSW, Inc.; and Wire Rope Corp. of America, Inc.

Notice of the institution of the Commission's investigations and of a public conference to be held in connection therewith was given by posting copies of the notice in the Office of the Secretary, U.S. International Trade Commission, Washington, DC, and by publishing the notice in the Federal Register of March 9, 2000 (65 FR 12575). The conference was held in Washington, DC, on March 22, 2000, and all persons who requested the opportunity were permitted to appear in person or by counsel.

The Commission transmitted its determination in this investigation to the Secretary of Commerce on April 17, 2000. The views of the Commission are contained in USITC Publication 3294 (April 2000), entitled Steel Wire Rope from China, India, Malaysia, and Thailand: Investigations Nos. 731-TA-868-871 (Preliminary).

By order of the Commission.
Issued: April 20, 2000.
Donna R. Koehnke,
Secretary.

[FR Doc. 00-10424 Filed 4-25-00; 8:45 am]

BILLING CODE 7020-02-P